ENVIRONMENTAL PROTECTION AGENCY

40 CFR Parts 50, 51, 70 and 71

[EPA-HQ-OAR-2010-0885, FRL-9810-3]

RIN 2060-AR34

Implementation of the 2008 National Ambient Air Quality Standards for Ozone: State Implementation Plan Requirements

Correction

In proposed rule document 2013-13233 appearing on pages 34178 through 34239 in the issue of Thursday, June 6, 2013, make the following correction.

1. On page 34234, in the first column, on the twenty-fifth line from the bottom, “PART 50—NATIONAL PRIMARY AND SECONDARY AXVYGH9” is corrected to appear as set forth below:

PART 50—NATIONAL PRIMARY AND SECONDARY AMBIENT AIR QUALITY STANDARDS [CORRECTED]

[FR Doc. C1-2013-13233 Filed 8-26-13; 8:45 am]

BILLING CODE 1505-01-D